DEPARTMENT OF LABOR

Pension and Welfare Benefits Administration

Proposed Extension of Information Collection Request Submitted for Public Comment and Recommendations; Prohibited Transaction Exemption 94-71

ACTION: Notice.

SUMMARY: The Department of Labor, as part of its continuing effort to reduce paperwork and respondent burden, conducts a preclearance consultation program to provide the general public and other federal agencies with an opportunity to comment on proposed and continuing collections of information in accordance with the Paperwork Reduction Act of 1995 (PRA 95), 44 U.S.C. 3506(c)(2)(A). This program helps to ensure that requested data is provided in the desired format, reporting burden (time and financial resources) is minimized, collection instruments are clearly understood, and the impact of collection requirements on respondents can be properly assessed.

Currently, the Pension and Welfare and Welfare Benefits Administration is soliciting comments on the extension of a currently approved information collection request (ICR) incorporated in Prohibited Transaction Class Exemption (PTCE) 94-71. A copy of the ICR may be obtained by contacting the office listed in the addresses section of this notice.

DATES: Written comments must be submitted on or before August 27, 2001.

ADDRESSES: Gerald B. Lindrew, Office of Policy and Research, U.S. Department of Labor, Pension and Welfare Benefits Administration, 200 Constitution Avenue, NW., Room N-5647, Washington, DC 20210, (202) 219-4782, FAX (202) 219-4745. These are not toll-free numbers.

SUPPLEMENTARY INFORMATION:

I. Background

PTCE 94-71 exempts certain transactions authorized by a settlement agreement resulting from an investigation of an employee benefit plan pursuant to the authority of section 504(a) of the Employee Retirement Income Security Act of 1974 (ERISA) from prohibitions set forth in sections 406 and 407(a) of ERISA. The conditions of the exemption include certain notice and disclosure requirements which are intended to protect the interests of plan participants and beneficiaries. At least 30 days prior to engaging in the transaction described in the settlement agreement, a party must provide written notice to affected participants and beneficiaries in a manner reasonably calculated to result in receipt of the notice. The notice and method of distribution must be approved by the regional or district office of the Department that negotiated the settlement.

II. Desired Focus of Comments

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify the information to be collected; and

• Minimize the burden of the collection of information on those who are to respond, including through the use of appropriate automated, electronic, mechanical, or other technological collection techniques or other forms of information technology, e.g., permitting electronic submissions of responses.

III. Current Actions

The ICR included in this exemption is intended to facilitate voluntary settlements arising from investigations involving Title I of ERISA, while ensuring that participants and beneficiaries have adequate information concerning matters which may affect their benefits. In the absence of PTCE 94-71, parties wishing to enter into certain types of transactions pursuant to settlement agreements would be required to apply for individual exemptions. The ICR also provides the Department with the necessary information to ensure that the plan is in compliance with the conditions of the exemption. The Department is not proposing changes to the exemption at this time.

Type of Review: Extension of a currently approved collection of information.

Agency: Department of Labor, Pension and Welfare Benefits Administration.

Title: Prohibited Transaction Exemption 94-71; An Exemption Authorizing Certain Transactions Pursuant to a Settlement Agreement Between Plans and the US Department of Labor.

OMB Number: 1210-0091.

Affected Public: Business or other for-profit; Not-for-profit institutions; Individuals.

Total Respondents: 4.

Frequency: On occasion.

Total Responses: 270.

Estimated Total Burden Hours: 13.

Total Burden Cost (Operating and Maintenance): $92.00.

Comments submitted in response to this notice will be summarized and/or included in the request for Office of Management and Budget approval of the information collection request; they will also become a matter of public record.

Dated: June 21, 2001.
Gerald B. Lindrew,
Deputy Director, Office of Policy and Research, Pension and Welfare Benefits Administration.

[FR Doc. 01-16080 Filed 6-26-01; 8:45 am]

BILLING CODE 4510-29-M